DEPARTMENT OF HEALTH AND HUMAN SERVICES

Substance Abuse and Mental Health Services Administration

Center for Substance Abuse Treatment; Amendment of Notice of Meeting

Pursuant to Public Law 92-463, notice is hereby given of a correction of a Notice of Meeting for the Center for Substance Abuse Treatment (CSAT) National Advisory Council to be held February 28 and March 1, 2007.

Public notice was given in the Federal Register on February 8, 2007, Volume 72, Number 26, page 5988 that the CSAT National Advisory Council would meet on February 28 and March 1 at 1 Choke Cherry Road, Sugar Loaf and Seneca Conferences, Rockville, Maryland. The meeting site and meeting dates have changed to: Washington, DC North/Gaithersburg Hilton, 620 Perry Parkway, Gaithersburg, Maryland, March 21, 9 a.m.-4 p.m., and March 22, 9 a.m.-1 p.m. The agenda has also changed to reflect the March Meeting. The contact for additional information remains as announced.

Dated: February 21, 2007.
Toian Vaughn,
Committee Management Officer, Substance Abuse and Mental Health Services Administration.

[FR Doc. E7-3453 Filed 2-26-07; 8:45 am]

BILLING CODE 4162-20-P